DEPARTMENT OF HEALTH AND HUMAN SERVICES

Administration for Children and Families

Proposed Information Collection Activity; Comment Request

Proposed Projects:

Title: Generic Clearance for Grant Reviewer Application Form.

OMB No.: New.

Description: This notice announces that the Administration for Children and Families intends to submit the proposed Information Collection Request (Generic ICR): Generic Clearance for Grant Reviewer Application Form under the Paperwork Reduction (PRA) (44 U.S.C. 3501 et. seq.). Comments on specific aspects for the proposed information collection are being solicited.

This request is for approval of a plan for conducting more than one information collection that is very similar, voluntary, low-burden and uncontroversial. Information collections under this generic clearance will be in compliance with U.S. Department of Health and Humans Services' Grants Policy Directive 2.04 “Awarding Grants”, and the Awarding Agency Grants Administration Manual, Chapter 2.04C “Objective Review of Grant Applications”. These forms will be used to select reviewers who will participate in the grant review process for the purpose of selecting successful applications.

Respondents: Individuals.

Annual Burden Estimates
Instrument | Number of respondents | Number of responses per respondent | Average burden hours per response | Total burden hours
Grant Review Application Form | 750 | 1 | 0.5 | 375

Estimated Total Annual Burden Hours: 375.

In compliance with the requirements of Section 506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade SW., Washington, DC 20447, Attn: ACF Reports Clearance Officer. Email address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Robert Sargis,
Reports Clearance Officer.

[FR Doc. 2014-29173 Filed 12-11-14; 8:45 am]

BILLING CODE 4184-01-P